INTERNATIONAL TRADE COMMISSION

[Inv. No. 337-TA-631]

In the Matter of Certain Liquid Crystal Display Devices and Products Containing the Same; Notice of Institution of Formal Enforcement Proceeding

AGENCY: U.S. International Trade Commission.

ACTION: Notice.

SUMMARY: Notice is hereby given that the U.S. International Trade Commission has instituted a formal enforcement proceeding relating to a limited exclusion order and cease and desist orders issued at the conclusion of the above-captioned investigation.

FOR FURTHER INFORMATION CONTACT: Clint A. Gerdine, Esq., Office of the General Counsel, U.S. International Trade Commission, 500 E Street, SW., Washington, DC 20436, telephone (202) 205-3061. Copies of all nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS) at http://edis.usitc.gov/. Hearing-impaired persons are advised that information on the matter can be obtained by contacting the Commission's TDD terminal on 202-205-1810.

SUPPLEMENTARY INFORMATION: The Commission instituted this investigation on January 25, 2008, based on a complaint filed by Samsung Electronics Co., Ltd. (“Samsung”) of Korea. 73 FR 4626-27. The complaint, as supplemented, alleges violations of section 337 of the Tariff Act of 1930, as amended, 19 U.S.C. 1337, in the importation into the United States, the sale for importation, and the sale within the United States after importation of certain liquid crystal display devices and products containing the same by reason of infringement of certain claims of U.S. Patent Nos. 7,193,666; 6,771,344 (“the '344 patent”); 7,295,196; and 6,937,311. The complaint further alleges the existence of a domestic industry as to each asserted patent. The Commission's notice of investigation named the following respondents: Sharp Corporation (“Sharp Corp.”) of Japan; Sharp Electronics Corporation (“SEC”) of Mahwah, New Jersey; and Sharp Electronics Manufacturing, Company of America, Inc. (“SEMA”) of San Diego, California (collectively “Sharp”).

On June 24, 2009, after reviewing in part the ALJ's final initial determination and requesting submissions on the issues of remedy, the public interest, and bonding, the Commission determined that there is a violation of section 337 of the Tariff Act of 1930, as amended, and issued a limited exclusion order directed to all Sharp products found in violation and cease and desist orders directed to SEC and SEMA. The limited exclusion order prohibits the unlicensed entry of liquid crystal display (“LCD”) devices, including display panels and modules, and LCD televisions or professional displays containing the same that infringe the asserted claims of the '344 patent that are manufactured abroad by or on behalf of, or imported by or on behalf of, any of the Sharp respondents. The cease and desist orders prohibit SEC and SEMA from engaging in certain activities in the United States related to the infringing LCD devices.

On December 1, 2009, complainant Samsung filed a complaint for enforcement proceedings under Commission Rule 210.75. Samsung asserts that Sharp has violated the Commission's limited exclusion and cease and desist orders by the continued practice of prohibited activities such as importing, marketing and selling infringing LCD devices, including LCD panels and modules, and LCD televisions and professional displays containing the same.

Having examined the complaint seeking a formal enforcement proceeding, and having found that the complaint complies with the requirements for institution of a formal enforcement proceeding contained in Commission rule 210.75, the Commission has determined to institute formal enforcement proceedings to determine whether Sharp is in violation of the Commission's limited exclusion order and cease and desist orders issued in the investigation, and what, if any, enforcement measures are appropriate. The following entities are named as parties to the formal enforcement proceeding: (1) Complainant Samsung, (2) all Sharp respondents, and (3) a Commission investigative attorney to be designated by the Director, Office of Unfair Import Investigations.

The authority for the Commission's determination is contained in section 337 of the Tariff Act of 1930, as amended (19 U.S.C. 1337), and in section 210.75 of the Commission's Rules of Practice and Procedure (19 CFR 210.75).

By order of the Commission.
Issued: December 14, 2009.
Marilyn R. Abbott,
Secretary to the Commission.

[FR Doc. E9-30144 Filed 12-17-09; 8:45 am]

BILLING CODE 7020-02-P